DEPARTMENT OF TRANSPORTATION

Federal Motor Carrier Safety Administration

[Docket No. FMCSA-2011-0059]

Agency Information Collection Activities: Proposed Collection; Comment Request; Generic Clearance for the Collection of Qualitative Feedback on Agency Service Delivery

AGENCY: Federal Motor Carrier Safety Administration (FMCSA), DOT.

ACTION: Notice of the Office of Management and Budget (OMB) review of information collection and solicitation of public comment.

SUMMARY: In compliance with the Paperwork Reduction Act of 1995, this notice announces that the Information Collection Request (ICR) abstracted below will be submitted to the OMB for review. The ICR describes the nature of the information collection and its expected burden. A Federal Register notice with a 60-day comment period soliciting public comments on the following information collection was published on December 22, 2010 (75 FR 80542).

DATES: Please send your comments by April 4, 2011. OMB must receive your comments by this date in order to act quickly on the ICR.

FOR FURTHER INFORMATION CONTACT: Mr. Brian Ronk, Program Manager, FMCSA, Office of Enforcement and Program Delivery, Outreach Division/MC-ESO. Telephone (202) 366-1072; or e-mail brian.ronk@dot.gov. Department of Transportation, Federal Motor Carrier Safety Administration, 1200 New Jersey Avenue, SE., Washington, DC 20590. Dr. Cem Hatipoglu, Transportation Specialist Technology Division/MC-RRT, Office of Analysis, Research and Technology, Telephone (202) 385-2383; or e-mail cem.hatipoglu@dot.gov. Department of Transportation, Federal Motor Carrier Safety Administration, 1200 New Jersey Avenue, SE., Washington, DC 20590.

SUPPLEMENTARY INFORMATION: OMB Control Number: 2126-xxxx.

Title: Collection of Qualitative Feedback on Agency Service Delivery.

Form No.: None.

Type of Review: New information collection request.

Respondents: State and local agencies, general public and stakeholders, original equipment manufacturers (OEM) and suppliers to the commercial motor vehicle (CMV) industry, fleets, owner-operators, state CMV safety agencies, research organizations and contractors, news organizations, safety advocate groups, and other Federal agencies.

Estimated Number of Respondents: 14,100.

Estimated Time per Response: Range from 5-30 minutes.

Total Estimated Annual Burden Hours: 3,450.

Frequency of Collection: Generally, on an annual basis.

Abstract: Executive Order 12862 “Setting Customer Service Standards,” direct Federal agencies to provide service to the public that matches or exceeds the best service available in the private sector (58 FR 48257, Sept. 11, 1993). In order to work continuously to ensure that our programs are effective and meet our customers' needs, FMCSA seeks to obtain OMB approval of a generic clearance to collect qualitative feedback from our customers on our service delivery. The surveys covered in this generic clearance will provide a means for FMCSA to collect this data direct from our customers. The information collected from our customers and stakeholders will help ensure that users have an effective, efficient, and satisfying experience with FMCSA's programs. This feedback will provide insights into customer or stakeholder perceptions, experiences and expectations, provide an early warning of issues with service, or focus attention on areas where communication, training or changes in operations might improve delivery of products or services. It will also allow feedback to contribute directly to the improvement of program management. The responses to the surveys will be voluntary and will not involve information that is required by regulations.

ADDRESSES: Send comments regarding the burden estimate, including suggestions for reducing the burden, to the Office of Management and Budget, Attention: Desk Officer for Department of Transportation, Federal Motor Carrier Safety Administration, Office of Information and Regulatory Affairs, Office of Management and Budget, 725 17th Street, NW., Docket Library, Room 10102, Washington, DC 20503, or by e-mail at oira_submission@omb.eop.gov, or fax: 202-395-5806.

Comments are Invited on: Whether the proposed collection of information is necessary for the proper performance of the functions of the Department of Transportation (DOT), including whether the information will have practical utility; the accuracy of the DOT's estimate of the burden of the proposed information collection; ways to enhance the quality, utility and clarity of the information to be collected; and ways to minimize the burden of the collection of information on respondents, including the use of automated collection techniques or other forms of information technology. A comment to OMB is most effective if OMB receives it within 30 days of publication of this notice.

Issued on: February 25, 2011.
Kelly Leone,
Associate Administrator for Research and Information Technology.

[FR Doc. 2011-4921 Filed 3-3-11; 8:45 am]

BILLING CODE 4910-EX-P